DEPARTMENT OF ENERGY

Federal Energy Regulatory Commission

Combined Notice of Filings #1

Take notice that the Commission received the following exempt wholesale generator filings:

Docket Numbers: EG19-97-000.

Applicants: Blossburg Power, LLC.

Description: Self-Certification of EG of Blossburg Power, LLC.

Filed Date: 5/15/19.

Accession Number: 20190515-5041.

Comments Due: 5 p.m. ET 6/5/19.

Docket Numbers: EG19-98-000.

Applicants: GenOn Holdco 1, LLC.

Description: Self-Certification of EG of GenOn Holdco 1, LLC.

Filed Date: 5/15/19.

Accession Number: 20190515-5042.

Comments Due: 5 p.m. ET 6/5/19.

Docket Numbers: EG19-99-000.

Applicants: GenOn Holdco 2, LLC.

Description: Self-Certification of EG of GenOn Holdco 2, LLC.

Filed Date: 5/15/19.

Accession Number: 20190515-5043.

Comments Due: 5 p.m. ET 6/5/19.

Take notice that the Commission received the following electric rate filings:

Docket Numbers: ER10-2437-012.

Applicants: Arizona Public Service Company.

Description: Second Supplement to December 28, 2018 Triennial Market Power Update of Arizona Public Service Company.

Filed Date: 5/14/19.

Accession Number: 20190514-5179.

Comments Due: 5 p.m. ET 6/4/19.

Docket Numbers: ER19-1839-000.

Applicants: Imperial Valley Solar 3, LLC.

Description: § 205(d) Rate Filing: Imperial Valey Solar 3, LLC Cost True-Up Amendment to be effective 5/15/2019.

Filed Date: 5/14/19.

Accession Number: 20190514-5131.

Comments Due: 5 p.m. ET 6/4/19.

Docket Numbers: ER19-1840-000.

Applicants: Imperial Valley Solar 3, LLC.

Description: Baseline eTariff Filing: Imperial Valey Solar 3, LLC Substation Facilities Agreement to be effective 5/15/2019.

Filed Date: 5/14/19.

Accession Number: 20190514-5132.

Comments Due: 5 p.m. ET 6/4/19.

Docket Numbers: ER19-1841-000.

Applicants: PacifiCorp.

Description: § 205(d) Rate Filing: Tri-State Master Install, O&M Agmt for Metering (Rev 1) to be effective 7/14/2019.

Filed Date: 5/14/19.

Accession Number: 20190514-5140.

Comments Due: 5 p.m. ET 6/4/19.

Docket Numbers: ER19-1842-000.

Applicants: GenOn Power Midwest, LP.

Description: § 205(d) Rate Filing: Reactive Supply Service Tariff Revision to be effective 12/31/9998.

Filed Date: 5/15/19.

Accession Number: 20190515-5002.

Comments Due: 5 p.m. ET 6/5/19.

Docket Numbers: ER19-1843-000.

Applicants: GenOn REMA, LLC.

Description: Tariff Cancellation: Notice of Cancellation of Rate Schedule to be effective 12/31/9998.

Filed Date: 5/15/19.

Accession Number: 20190515-5003.

Comments Due: 5 p.m. ET 6/5/19.

Docket Numbers: ER19-1844-000.

Applicants: GenOn Holdco 1, LLC.

Description: Baseline eTariff Filing: New Baseline Reactive Tariff Filing to be effective 12/31/9998.

Filed Date: 5/15/19.

Accession Number: 20190515-5004.

Comments Due: 5 p.m. ET 6/5/19.

Docket Numbers: ER19-1845-000.

Applicants: GenOn Holdco 2, LLC.

Description: Baseline eTariff Filing: New Baseline Reactive Tariff Filing to be effective 12/31/9998.

Filed Date: 5/15/19.

Accession Number: 20190515-5005.

Comments Due: 5 p.m. ET 6/5/19.

Docket Numbers: ER19-1846-000.

Applicants: GenOn Holdco 3, LLC.

Description: Baseline eTariff Filing: New Baseline Reactive Tariff Filing to be effective 12/31/9998.

Filed Date: 5/15/19.

Accession Number: 20190515-5006.

Comments Due: 5 p.m. ET 6/5/19.

Docket Numbers: ER19-1847-000.

Applicants: GenOn Holdco 4, LLC.

Description: Baseline eTariff Filing: New Baseline Reactive Tariff Filing to be effective 12/31/9998.

Filed Date: 5/15/19.

Accession Number: 20190515-5007.

Comments Due: 5 p.m. ET 6/5/19.

Docket Numbers: ER19-1848-000.

Applicants: GenOn Holdco 5, LLC.

Description: Baseline eTariff Filing: New Baseline Reactive Tariff Filing to be effective 12/31/9998.

Filed Date: 5/15/19.

Accession Number: 20190515-5008.

Comments Due: 5 p.m. ET 6/5/19.

Docket Numbers: ER19-1849-000.

Applicants: GenOn Holdco 6, LLC.

Description: Baseline eTariff Filing: New Baseline Reactive Tariff Filing to be effective 12/31/9998.

Filed Date: 5/15/19.

Accession Number: 20190515-5009.

Comments Due: 5 p.m. ET 6/5/19.

Docket Numbers: ER19-1850-000.

Applicants: GenOn Holdco 7, LLC.

Description: Baseline eTariff Filing: New Baseline Reactive Tariff Filing to be effective 12/31/9998.

Filed Date: 5/15/19.

Accession Number: 20190515-5010.

Comments Due: 5 p.m. ET 6/5/19.

Docket Numbers: ER19-1851-000.

Applicants: GenOn Holdco 8, LLC.

Description: Baseline eTariff Filing: New Baseline Reactive Tariff Filing to be effective 12/31/9998.

Filed Date: 5/15/19.

Accession Number: 20190515-5011.

Comments Due: 5 p.m. ET 6/5/19.

Docket Numbers: ER19-1852-000.

Applicants: Orrtanna Power, LLC.

Description: Baseline eTariff Filing: New Baseline Reactive Tariff Filing to be effective 12/31/9998.

Filed Date: 5/15/19.

Accession Number: 20190515-5012.

Comments Due: 5 p.m. ET 6/5/19.

Docket Numbers: ER19-1853-000.

Applicants: Shawnee Power, LLC.

Description: Baseline eTariff Filing: New Baseline Reactive Tariff Filing to be effective 12/31/9998.

Filed Date: 5/15/19.

Accession Number: 20190515-5013.

Comments Due: 5 p.m. ET 6/5/19.

Docket Numbers: ER19-1854-000.

Applicants: Titus Power, LLC.

Description: Baseline eTariff Filing: New Baseline Reactive Tariff Filing to be effective 12/31/9998.

Filed Date: 5/15/19.

Accession Number: 20190515-5014.

Comments Due: 5 p.m. ET 6/5/19.

Docket Numbers: ER19-1855-000.

Applicants: Hamilton Power, LLC.

Description: Baseline eTariff Filing: New Baseline Reactive Tariff Filing to be effective 12/31/9998.

Filed Date: 5/15/19.

Accession Number: 20190515-5015.

Comments Due: 5 p.m. ET 6/5/19.

Docket Numbers: ER19-1856-000.

Applicants: Blossburg Power, LLC.

Description: Baseline eTariff Filing: New Baseline Reactive Tariff Filing to be effective 12/31/9998.

Filed Date: 5/15/19.

Accession Number: 20190515-5016.

Comments Due: 5 p.m. ET 6/5/19.

Docket Numbers: ER19-1857-000.

Applicants: Hunterstown Power, LLC.

Description: Baseline eTariff Filing: New Baseline Reactive Tariff Filing to be effective 12/31/9998.

Filed Date: 5/15/19.

Accession Number: 20190515-5017.

Comments Due: 5 p.m. ET 6/5/19.

Docket Numbers: ER19-1858-000.

Applicants: Tolna Power, LLC.

Description: Baseline eTariff Filing: New Baseline Reactive Tariff Filing to be effective 12/31/9998.

Filed Date: 5/15/19.

Accession Number: 20190515-5018.

Comments Due: 5 p.m. ET 6/5/19.

Docket Numbers: ER19-1859-000.

Applicants: Southwest Power Pool, Inc.

Description: § 205(d) Rate Filing: 2891R5 AECC, Entergy Arkansas and MISO Attachment AO to be effective 5/13/2019.

Filed Date: 5/15/19.

Accession Number: 20190515-5020.

Comments Due: 5 p.m. ET 6/5/19.

Docket Numbers: ER19-1860-000.

Applicants: Imperial Valley Solar 1, LLC.

Description: § 205(d) Rate Filing: COC Exhibit D CSOLAR IV South to be effective 5/16/2019.

Filed Date: 5/15/19.

Accession Number: 20190515-5030.

Comments Due: 5 p.m. ET 6/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2019.
Nathaniel J. Davis, Sr.,
Deputy Secretary.

[FR Doc. 2019-10532 Filed 5-20-19; 8:45 am]

BILLING CODE 6717-01-P